DEPARTMENT OF THE INTERIOR

Bureau of Indian Affairs

[234A2100DD/AAKC001030/A0A501010.999900]

Annual Meeting of Federal Partners and Tribal 477 Workgroup Under Indian Employment, Training and Related Services Act of 2017

AGENCY: Bureau of Indian Affairs, Interior.

ACTION: Notice of public meeting.

SUMMARY: The Department of the Interior, Bureau of Indian Affairs (BIA), is announcing the annual meeting of the Federal agencies and Tribes that participate in the Indian Employment, Training, and Related Services Act of 2017, as amended, known as “Public Law 477 Work Group.”

DATES:

• Meeting: The annual Federal Partner and Tribal 477 Work Group meeting will be held on Tuesday, September 26, 2023, from 2:00 p.m. to 4:00 p.m. Eastern Daylight Time (EDT). Please see SUPPLEMENTARY INFORMATION below for details on how to participate.

• Comments: Interested persons are invited to submit comments on or before October 26, 2023. Please see ADDRESSES below for details on how to submit written comments.

ADDRESSES: Send your comments to Johnna Blackhair, Acting Deputy Bureau Director, Indian Services, Bureau of Indian Affairs, 849 C Street NW, MS-3645-MIB, Washington, DC 20240; or by email to Johnna.Blackhair@bia.gov. Please reference the Public Law 477 Work Group in the subject line of your email.

FOR FURTHER INFORMATION CONTACT: Johnna Blackhair, (Acting) Deputy Bureau Director, Indian Services, Bureau of Indian Affairs, Johnna.Blackhair@bia.gov; (202) 513-7640.

SUPPLEMENTARY INFORMATION: This meeting is being held under the authority of Public Law 102-477, as amended (25 U.S.C. 3410(a)(3)(B)(i)), and section 2 of the Interdepartmental Memorandum of Agreement, signed by Secretary Haaland on September 12, 2022.

In 2017, the Congress enacted the Indian Employment Training and Related Services Consolidation Act of 2017, Public Law 115-93, codified at 25 U.S.C. 3401-3417 (2017 Act). The 2017 Act update amended and expanded the Indian Employment and Related Services Demonstration Act of 1992, Public Law 102-477 (as amended in 2017, Public Law 477) by, in part, identifying 12 Federal agencies that are now subject to the amended law. Under Public Law 477, Tribes may propose to integrate eligible grant programs from the Departments of the Interior, Agriculture, Commerce, Education, Energy, Health & Human Services, Homeland Security, Housing & Urban Development, Justice, Labor, Transportation, and Veterans Affairs, consolidate and reprogram grant funds in accordance with a single plan, budget, and report approved by the Secretary of the Interior (477 Plan). As required by the 2017 updates to Public Law 477, the Department of the Interior entered into a Memorandum of Agreement (MOA) among the 12 Federal agencies to implement Public Law 477. Each of the 12 Federal agencies signed a renegotiated MOA in the fall of 2022.

As DOI is the lead agency responsible for implementing Public Law 477, the BIA, as delegated by the Secretary of the Interior, announces the annual meeting of participating Tribes and Federal agencies. As directed by statute, the meeting will be co-chaired by the Assistant Secretary—Indian Affairs, Bryan Newland, and the 477 Tribal Workgroup Committee Chairs, Margaret Zientek (Contiguous 48) and Holly Morales (Alaska). 25 U.S.C. 3410(a)(3)(B)(i).

Meeting Agenda

1. Opening Remarks

2. Status of the Implementation of the revised Memorandum of Agreement

A. 477 Programs Integrated

B. Plan Approval/Denial Process

C. Waiver Approvals/Denials

D. Summary Status of Participating 477 Tribes (FY 2023 as of 07/31/23)

E. Fund Transfer

3. Annual Reports

A. 2023 Report(s) from the 12 Federal Partners

B. Annual Report Roll Up/Statistical and Financial Summary

C. Tribal Recognitions

4. Topics for Discussion

A. OMB 1076-0135 (version 2) Reporting Form (expiration extended to 11-30-24) [DOI]

B. TANF-ACF-IM-2023-01—To inform tribes administering Tribal TANF programs under a 477 plan of the Pandemic Emergency Assistance Fund reallotment [Tribal Working Group]

C. Applicability of Uniform Guidance (2 CFR part 200) requirements [Tribal Working Group]

D. Labor Force Report [Tribal Working Group]

E. Grantee status of SNAP E&T [Tribal Working Group]

5. Forum and Discussion regarding Conflict Resolution

6. Adjourn

Meeting Access

• Physical Access: The meeting will be held at the U.S. Department of the Interior, 1849 C St NW, Washington, DC 20240.

• Virtual Meeting Access: Members of the public wishing to attend the meeting should visit https://www.zoomgov.com/meeting/register/vJItdeiqqjgrHcYBAYs22tAUjTCz4qP0yR8 for virtual access.

• Audio Meeting Access: To join and participate in the virtual meeting, please use the following connection information:

○ Phone Number: (669) 254-5252

○ Meeting ID: 160 212 4317

○ Passcode: 337450

• Special Accommodations: Please make requests in advance for sign language interpreter services, assistive listening devices, or other reasonable accommodations. We ask that you contact the person listed in the FOR FURTHER INFORMATION CONTACT section of this notice at least seven (7) business days prior to the meeting to give DOI sufficient time to process your request. All reasonable accommodation requests are managed on a case-by-case basis.

Authority: This notice is published in accordance with 25 U.S.C. 3410(a)(3)(B)(i).

Bryan Newland,
Assistant Secretary—Indian Affairs.

[FR Doc. 2023-17448 Filed 8-14-23; 8:45 am]

BILLING CODE 4337-15-P